DEPARTMENT OF COMMERCE

National Oceanic and Atmospheric Administration

RIN 0648-XG486

Gulf of Mexico Fishery Management Council; Public Meeting

AGENCY: National Marine Fisheries Service (NMFS), National Oceanic and Atmospheric Administration (NOAA), Commerce.

ACTION: Notice of a public meeting; via webinar.

SUMMARY: The Gulf of Mexico Fishery Management Council will hold a meeting of its Mackerel Advisory Panel via webinar.

DATES: The webinar will convene on Tuesday, October 9, 2018, 1 p.m. to 3 p.m., EDT.

ADDRESSES:

Meeting address: The meeting will be held via webinar; visit the Gulf Council website for registration and log in information.

Council address: Gulf of Mexico Fishery Management Council, 4701 W Spruce Street, Suite 200, Tampa, FL 33607; telephone: (813) 348-1630.

FOR FURTHER INFORMATION CONTACT: Ryan Rindone, Fishery Biologist, Gulf of Mexico Fishery Management Council; ryan.rindone@gulfcouncil.org, telephone: (813) 348-1630.

SUPPLEMENTARY INFORMATION:

Tuesday, October 9, 2018; 1 p.m.-3 p.m.;

I. Introductions and Adoption of Agenda (Item A1)

II. Approval of November 29, 2016 Mackerel AP report minutes (Item A2)

III. Review of CMP Framework Amendment 7—Modifications to Gulf Cobia Size and Possession Limits (Item A3)

IV. CMP FA7 Decision Document (Item A4)

V. AP Recommendations

VI. Other Business

—Meeting Adjourns

The meeting will held via webinar. You may register for the webinar by visiting www.gulfcouncil.org and clicking on the Mackerel Advisory Panel meeting on the calendar.

The Agenda is subject to change, and the latest version along with other meeting materials will be posted on www.gulfcouncil.org as they become available.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: September 17, 2018.
Tracey L. Thompson,
Acting Deputy Director, Office of Sustainable Fisheries, National Marine Fisheries Service.

[FR Doc. 2018-20465 Filed 9-19-18; 8:45 am]

BILLING CODE 3510-22-P